DEPARTMENT OF HOMELAND SECURITY

Coast Guard

[Docket No. USCG-2012-1091]

Availability of Draft Environmental Assessment for the Proposed Modification of the Bayonne Bridge Across the Kill Van Kull Between Bayonne, Hudson County, NJ and Staten Island, Richmond County, NY

AGENCY: Coast Guard, DHS.

ACTION: Notice of availability extending comment period and notice of third public meeting.

SUMMARY: This notice extends the public comment period on a Draft Environmental Assessment (Draft EA) which examines the reasonably foreseeable environmental impacts and socio-economic impacts of the proposed modification of the historic Bayonne Bridge across the Kill Van Kull between Bayonne, New Jersey and Staten Island, New York. This notice also announces a third public meeting, in Newark, NJ, on this Draft EA. Because the Bayonne Bridge is a structure over navigable waters of the United States, the proposed bridge modification would require a Coast Guard Bridge Permit Amendment. This notice provides information on how to participate in the public comment process for the Draft EA, which includes an opportunity to submit oral or written comments at three public meetings to consider an application by the Port Authority of New York & New Jersey (PANYNJ) for Coast Guard approval of the modification to the Bayonne Bridge across the Kill Van Kull.

DATES: Written comments and related material may be submitted to our online docket via http://www.regulations.gov on or before March 5, 2013, or must reach the Docket Management Facility by that date.

The public meetings will be held on February 5, 2013, in Bayonne, NJ, February 7, 2013, in Staten Island, NY, and February 13, 2013, in Newark, NJ (see the Background and Purpose section below for more details). As previously noted for the first two meetings, any requests for an oral or sign language interpreter must be received by January 25, 2013. Such requests for the February 13, 2013 meeting in Newark, NJ, must be received by February 1, 2013.

ADDRESSES: You may submit comments identified by docket number USCG-2012-1091 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

We have provided a copy of the Draft EA (document USCG-2012-1091-0002) in our online docket at http://www.regulations.gov. Also, the Coast Guard First District Bridge Office at 1 South Street Bldg 1, New York, NY 10004-1466 will maintain a printed copy of the Draft EA for public review. The document will be available for inspection at this location between 8 a.m. and 4 p.m., Monday through Friday, except Federal holidays. The document will also be available for inspection in the locations shown in the section below titled “Viewing the comments and the Draft EA.”

FOR FURTHER INFORMATION CONTACT: If you have questions on this notice or the public meetings, call or email Christopher Bisignano, Bridge Management Specialist, First Coast Guard District, U.S. Coast Guard; telephone 212-668-7165, email Christopher.J.Bisignano@uscg.mil. If you have questions on viewing or submitting material to the docket, call Docket Operations at 202-366-9826.

Authority: The Draft Environmental Assessment has been prepared in accordance with the National Environmental Policy Act (NEPA) (42 United States Code (U.S.C.) 4321 et. seq.); Council on Environmental Quality (CEQ) Regulations for Implementing NEPA (40 Code of Federal Regulations (CFR) 1500-1508) and associated CEQ guidelines; Department of Homeland Security Management Directive 5100.1, Environmental Planning Program; and United States Coast Guard (USCG) Commandant Instruction (COMDTINST) M16475.1D, National Environmental Policy Act Implementing Procedures and Policy for Considering Environmental Impacts.

SUPPLEMENTARY INFORMATION: On January 4, 2013, the Coast Guard published a notice in the Federal Register announcing the availability of the Draft EA, inviting comments on it, and announcing the dates and locations of two public meetings on the Draft EA (78 FR 740). This notice supplements that earlier notice by extending the comment period to March 5, 2013, and it announces a third public meeting to be held February 13, 2013, in Newark, NJ. Please note that it is the U.S. Coast Guard Office of Bridge Programs' policy to provide 30 days of notice prior to holding a public meeting; however, due to extenuating circumstances, that policy is being waived for the third public meeting in Newark, NJ.

Public Participation and Request for Comments

We encourage you to submit comments and related material on the Draft EA. All comments received, including comments received at the public meeting, will be posted, without change, to http://www.regulations.gov and will include any personal information you have provided.

Submitting comments: If you submit a comment, please include the docket number for this notice (USCG-2012-1091) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, insert “USCG-2012-1091” in the Search box, press Enter, and then look for this notice in the docket and click the Comment button next to it. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and the Draft EA: To view the comments and Draft EA go to http://www.regulations.gov, insert “USCG-2012-1091” in the Search box, press Enter, then click on the “Open Docket Folder” option. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility. The Draft EA is also available online at http://www.uscg.mil/d1/prevention/Bridges.asp, www.dhs.gov/nepa, and http://www.panynj.gov/bayonnebridge/, and is available 10 a.m.-3 p.m., Monday through Friday (except Federal holidays and as noted below), for inspection at the following locations:

1. U.S. Coast Guard Battery Bldg, 1 South Street, Building 1, New York, NY 10004

2. U.S. Coast Guard Sector New York, 212 Coast Guard Drive, Staten Island, NY 10305

3. Bayonne City Hall, 630 Avenue C, Bayonne, NJ 07002

4. Staten Island Borough Hall, 10 Richmond Terrace, Room 100, Staten Island, NY 10301

5. Bayonne Public Library, 630 Avenue C, Bayonne, NJ 07002 (Also available from 12 p.m.-5 p.m. on Saturdays)

6. Port Richmond—NY Public Library, 75 Bennett Street, Staten Island, NY 10302 (Also available 12 p.m.-5 p.m. on Thursdays and Saturdays)

7. Ironbound Community Corp, 317 Elm Street, Newark, NJ 07105

8. New York Assembly District 61, 853 Forest Avenue, Staten Island, NY 10301

9. New Jersey Legislative District 31, 447 Broadway, Bayonne, NJ 07002

10. New York City Council District 49, 130 Stuyvesant Place, Staten Island, NY 10301

11. Staten Island Community Board 1, 1 Edgewater Plaza, Room 217, Staten Island, NY 10305

Copies of all written communications from the public meetings will be available for review by interested persons on the online docket, USCG-2012-1091 via http://www.regulations.gov.

Transcripts of the meetings will be available for public review approximately 30 days after the meetings. All comments will be made part of the official case record.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

Port Authority of New York and New Jersey (PANYNJ) has proposed to modify the Bayonne Bridge across navigable waters of the United States by raising the roadway thereby increasing the vertical navigational clearance from approximately 151 feet to 215 feet at Mean High Water. A thorough description of the project and how it would be completed can be found at the project's Web site: http://www.panynj.gov/bayonnebridge/.

The proposed bridge modification project has been identified as a significant project under ”Implementing Executive Order 13604 on Improving Performance of Federal Permitting and Review of Infrastructure Projects: A Federal Plan for Modernizing the Federal Permitting and Review Process for Better Projects, Improved Environmental and Community Outcomes, and Quicker Decisions,” dated June 2012, which requires agencies to identify and expedite the permitting and environmental review process for regionally or nationally significant infrastructure projects. The existing Bayonne Bridge has a vertical navigational clearance of approximately 151 feet above the Kill Van Kull at Mean High Water. The applicant proposes to increase the vertical navigational clearance to approximately 215 feet above the waterway at Mean High Water to provide greater clearances to accommodate larger, Post-Panamax vessels and thereby ensure the long-term viability of the Port of New York and New Jersey. Post-Panamax vessels are wider and taller ships with deeper drafts that will be able to traverse through the Panama Canal once improvements on the canal are completed in 2014. The expanded purpose of the project is to improve the substandard features and seismic stability of the existing bridge and ensure it conforms to modern highway and structural design standards. In addition, the existing bridge is eligible for listing on the National Register of Historic Places. Therefore, the Coast Guard has initiated consultation under Section 106 of the National Historic Preservation Act. The Advisory Council on Historic Preservation has accepted the Coast Guard invitation to participate in the Section 106 process.

The Coast Guard issued the NEPA Workplan, dated September 2011, which provided a discussion of the project's Purpose and Need, project alternatives and the framework of the environmental analysis. On October 31, 2011, the Coast Guard held a coordination meeting with city, state and federal agencies to discuss the project's scope and the NEPA Workplan. On November 14, 2011, the Coast Guard issued a solicitation requesting comments from the general public for the scope of the project and the NEPA Workplan. Comments received following the meeting and during the solicitation comment period included concerns from the U.S. Federal Highway Administration, U.S. Environmental Protection Agency, various private organizations and individuals, and others regarding additional cargo volumes due to larger ships entering the Port of New York and New Jersey, the expansion of the port and port facilities, and the related impacts to air quality and traffic. In response to these comments, an Induced Demand Analysis was conducted by an independent source to study the impact of the proposed action to those communities surrounding the Port of New York and New Jersey. Further information regarding this analysis can be found in Chapter 18 of the Draft EA and in Appendix I. In addition, the Coast Guard met with representatives from minority and low income communities in Staten Island, NY and Newark, NJ to explain the Coast Guard bridge permit process and to ensure those communities have a voice in the public comment process. Based on the information received to date, the Coast Guard has determined that a Draft Environmental Assessment is the most appropriate level of environmental documentation for this project. Should the Coast Guard determine that there are no significant impacts following the comment period; a Finding of No Significant Impact would be issued. Under NEPA procedures, should significant impacts be discovered during the review process, the level of environmental documentation may be elevated to an Environmental Impact Statement. The Draft EA and appendices, Coast Guard NEPA Workplan dated September 2011, “Bayonne Bridge Navigational Clearance Program Responses to Scoping Comments NEPA Workplan,” dated February 2012, are available online in the www.regulations.gov docket as well as at http://www.uscg.mil/d1/prevention/Bridges.asp.

Alternatives for the proposed project considered include: (1) Taking no action; (2) various build alternatives that satisfy the purpose and need; (3) a tunnel; (4) new cargo terminals constructed downstream of the Bayonne Bridge; and (5) a ferry service in lieu of the bridge. Build alternatives included raising the roadway within the existing superstructure (preferred), jacking the arch superstructure, converting to a lift bridge, or constructing a new bridge.

As a structure over navigable waters of the United States, it requires a Coast Guard Bridge Permit Amendment pursuant to the Bridge Act of March 23, 1906, as amended, Title 33 U.S.C. 491. Additionally, the bridge permit amendment would be the major federal action in this undertaking since federal funds will not be used, and therefore the Department of Homeland Security, through the Coast Guard is the federal lead agency for review of potential effects on the human environment, including historic properties, pursuant to the National Environmental Policy Act of 1969 (NEPA), as amended (42 U.S.C. 4321 et seq.) and the National Historic Preservation Act (NHPA), as amended (16 U.S.C. 470 et seq.).

The Coast Guard, with assistance from PANYNJ, has prepared a Draft EA in accordance with NEPA. See “Viewing the comments and Draft EA” above. The Draft EA identifies and examines the reasonable alternatives (including “No Build”) and assesses the potential for impact to the human environment, including historic properties, of the alternative proposals.

We are seeking public input on the Draft EA, including comments on completeness and adequacy of the document, and on other environmental and historic preservation concerns that may be related to the proposed bridge modification project. This includes suggesting analyses and methodologies for use in the Draft EA or possible sources of data or information not included in the Draft EA. Your comments will be considered while making the decision to prepare a final Environmental Assessment, or elevate the document to an Environmental Impact Statement.

Public Meetings

The Coast Guard will hold three public meetings on the Draft EA, one in Bayonne, NJ, one in Staten Island, NY, and one in Newark, NJ to provide an opportunity for oral comments. The specific times and locations are as follows:

1. The first public meeting will be held on Tuesday, February 5, 2013, from 4 p.m.-9 p.m. at Bayonne High School Auditorium, 669 Avenue A (30th Street and Avenue A Entrance), Bayonne, NJ 07002.

2. The second public meeting will be held on Thursday, February 7, 2013, from 4 p.m.-9 p.m. at Snug Harbor Cultural Center Great Hall, 1000 Richmond Terrace, Building P, 2nd Floor, Staten Island, NY 10301.

3. The third public meeting will be held on Wednesday, February 13, 2013, from 4 p.m. to 9 p.m. at LeRoy Smith Public Safety Building, 60 Nelson Place, 14th Floor Conference Room, Newark, NJ 07102.

The Coast Guard and PANYNJ will make brief presentations at 4 p.m. and 7 p.m. at each meeting to accommodate the differing schedules of those wishing to attend. The purpose of these meetings is to consider an application by the PANYNJ for Coast Guard approval of the modification to the historic Bayonne Bridge across the Kill Van Kull, mile 1.5, between Bayonne, NJ and Staten Island, NY. All interested persons may present data, views, and comments, orally or in writing, concerning the impact of the proposed bridge project on navigation and the human environment.

The public meetings will be informal. A representative of the Coast Guard will preside, make a brief opening statement and announce the procedure to be followed at the meetings. Attendees who request an opportunity to present oral comments at a public meeting must sign up to speak at the meeting site at the designated time of the meeting. Speakers will be called in the order of receipt of the request. Attendees at the meetings, who wish to present testimony, and have not previously made a request to do so, will follow those having submitted a request, as time permits. All oral presentations will be limited to three minutes. The public meetings may end early if all present wishing to speak have done so. Any oral comments provided at the meetings will be transcribed and placed into the docket by the Coast Guard. Written comments and related material may also be submitted to Coast Guard personnel specified at that meeting for placement into the docket by the Coast Guard.

Information on Service for Individuals With Disabilities

For information on facilities or services for individuals with disabilities or to request special assistance at the public meeting, contact Christopher Bisignano, Bridge Management Specialist, First Coast Guard District, U.S. Coast Guard; at the telephone number or email address indicated under the FOR FURTHER INFORMATION CONTACT section of this notice. As previously noted for the first two meetings, any requests for an oral or sign language interpreter must be received by January 25, 2013. Such requests for the February 13, 2013 meeting in Newark, NJ, must be received by February 1, 2013.

This notice is issued under the authority of 5 U.S.C. 552(a). Additionally, the draft EA has been prepared in accordance with the Bridge Act of March 23, 1906, as amended, Title 33 U.S.C. 491 and the National Environmental Policy Act (NEPA) (42 U.S.C. 4321 et. seq.); Council on Environmental Quality (CEQ) Regulations for Implementing NEPA (40 Code of Federal Regulations (CFR) 1500-1508) and associated CEQ guidelines; Department of Homeland Security Management Directive 5100.1, Environmental Planning Program; and United States Coast Guard (USCG) Commandant Instruction (COMDTINST) M16475.1D, National Environmental Policy Act Implementing Procedures and Policy for Considering Environmental Impacts.

Dated: January 18, 2013.
Brian L. Dunn,
Administrator, Office of Bridge Programs, U.S. Coast Guard.

[FR Doc. 2013-01502 Filed 1-24-13; 8:45 am]

BILLING CODE 9110-04-P